DEPARTMENT OF COMMERCE

National Oceanic and Atmospheric Administration

[I.D. 031705B]

Fisheries Off West Coast States and in the Western Pacific; Pacific Coast Groundfish Fishery; Application for an Exempted Fishing Permit

AGENCY: National Marine Fisheries Service (NMFS), National Oceanic and Atmospheric Administration (NOAA), Commerce.

ACTION: Notice; receipt of an exempted fishing permit application; intent to issue the EFP; request for comments.

SUMMARY: NMFS announces the receipt of an exempted fishing permit (EFP) application, and the intent to issue EFPs for vessels participating in an observation program to monitor the incidental take of salmon and groundfish in the shore-based component of the Pacific whiting fishery. The EFPs are necessary to allow trawl vessels fishing for Pacific whiting to delay sorting their catch, and thus to retain prohibited species and groundfish in excess of cumulative trip limits until the point of offloading. These activities are otherwise prohibited by Federal regulations. The EFPs will be effective no earlier than April 1, 2005, and would expire no later than May 31, 2006, but could be terminated earlier under terms and conditions of the EFPs and other applicable laws.

DATES: Written comments must be received by April 1, 2005.

ADDRESSES: Send comments or request for copies of the EFP application to Carrie Nordeen, Northwest Region, NMFS, 7600 Sand Point Way NE., Bldg. 1, Seattle, WA 98115 0070 or email to 2005WhitingEFP.nwr@noaa.gov. Comments sent via email, including all attachments, must not exceed a 10 megabyte file size.

FOR FURTHER INFORMATION CONTACT: Carrie Nordeen at (206) 526 6144.

SUPPLEMENTARY INFORMATION: This action is authorized by the Magnuson-Stevens Fishery Conservation and Management Act provisions at 50 CFR 600.745, which state that EFPs may be used to authorize fishing activities that would otherwise be prohibited. At the November 2004 Pacific Fishery Management Council (Pacific Council) meeting in Portland, Oregon, NMFS received an application for these EFPs from the States of Washington, Oregon, and California. An opportunity for public testimony was provided during the Pacific Council meeting. The Pacific Council recommended that NMFS issue the EFPs, as requested by the States. NMFS is working with the States and participants of the EFP to resolve funding, full retention, and monitoring issues affecting this EFP.

Issuance of these EFPs, to about 40 vessels, will continue an ongoing program to collect information on the incidental catch of salmon and groundfish in whiting harvests delivered to shore-based processing facilities by domestic trawl vessels. Because whiting deteriorates rapidly, whiting must be minimally handled and immediately chilled to maintain the flesh quality. As a result, many vessels dump catch directly or near directly into the hold and are unable to effectively sort their catch.

The issuance of EFPs will allow vessels to delay sorting of groundfish catch in excess of cumulative trip limits and prohibited species until offloading. These activities are otherwise prohibited by regulation. In 2004, electronic monitoring systems were provided by NMFS to catcher vessels participating in the whiting EFP as part of a pilot study to evaluate if these systems would be useful tools to verify full retention and/or document discard at sea. Based on the results from the 2004 pilot study, electronic monitoring systems may be useful tools to monitor compliance with full retention requirements. NMFS will continue to evaluate the usefulness of electronic monitoring tools during the 2005 whiting EFP and will once again provide electronic monitoring systems to participating vessels.

Delaying sorting until offloading will allow samplers located at the processing facilities to collect incidental catch data for total catch estimates and will enable whiting quality to be maintained. Without an EFP, groundfish regulations at 50 CFR 660.306(a)(2) require vessels to sort their prohibited species catch and return them to sea as soon as practicable with minimum injury. Similarly, regulations at 50 CFR 660.306(a)(10) prohibit the retention of groundfish in excess of the published trip limits.

In addition to providing information that will be used to monitor the attainment of the shore-based whiting allocation, information gathered through these EFPs is expected to be used in a future rulemaking. In the near future, NMFS is considering implementing, through federal regulation, a monitoring program for the shore-based Pacific whiting fleet. The Pacific Council recommended using EFPs only until a permanent monitoring program can be developed and implemented. NMFS is developing a preliminary draft Environmental Assessment that includes a range of alternative monitoring systems for the shore-based Pacific whiting fishery. At its June 2004 meeting, the Pacific Council considered a preliminary range of alternatives for a monitoring program that focus on three major issues: (1) The monitoring program (i.e., federal observers, state monitors, electronic monitoring, or a combination thereof); (2) tracking and disposition of prohibited species and groundfish overages; and (3) mechanisms for funding of the monitoring program. In summer 2005, the Pacific Council is expected to adopt a revised range of alternatives for public review that cover these same issues. In autumn 2005, the Pacific Council is expected to make final recommendations to NMFS regarding this monitoring program. NMFS would then prepare a proposed rule, which would include a public comment period, followed by a final rule implementing a monitoring program before the start of the 2006 shore-based primary Pacific whiting season.

Authority: 16 U.S.C. 1801 et seq.

Dated: March 17, 2005.
Alan D. Risenhoover,
Acting Director, Office of Sustainable Fisheries, National Marine Fisheries Service.

[FR Doc. E5-1248 Filed 3-21-05; 8:45 am]

BILLING CODE 3510-22-S